Title 3—

The President

Proclamation 10399 of May 20, 2022

National Safe Boating Week, 2022

By the President of the United States of America

A Proclamation

Exploring America's magnificent lakes, rivers, ponds, bays, and oceans has long been a favorite pastime for recreational boaters and a memorable way to discover our Nation's natural treasures. As we prepare for warmer weather, and as more Americans take to the water, National Safe Boating Week reminds us of the importance of following responsible and safe boating practices.

So many Americans enjoy recreational boating, and most trips are safe. But many preventable accidents occur each year that result in tragic deaths and injuries. Observing boating safety precautions is essential for all boaters, whether you are fishing, sailing, kayaking, or motoring.

Safe boating practices start well before the hull breaks the water's surface. Experts agree that taking a State-offered boating safety course is one of the best ways to minimize accidents. Most boating fatalities involve boats whose operators—including paddlers in rentals—did not have proper boating safety education. I urge all Americans to use the free assistance of the Coast Guard Auxiliary and America's Boating Club to ensure that your vessels are safe and that operators have the tools they need to operate them safely.

I also call upon Americans to follow basic boating safety procedures and to always wear a life jacket to protect yourself and your loved ones. In 2020, three-quarters of boating deaths were drownings, and nearly 7 out of every 8 drowning victims were not wearing a life jacket. In addition, avoid using alcohol or drugs when operating a boat. Alcohol continues to be a significant contributing factor in boating deaths, and its effects are compounded by water movement, exposure to the elements, and dynamic operating conditions. Finally, wearing an engine cut-off switch link will stop the boat's engine in the event the operator falls overboard, protecting everyone from vessel and propeller strikes. By adhering to safe boating practices, Americans will be safer on the water while enjoying the boating season.

This week, we also pay tribute to the United States Coast Guard and the Federal, State, Tribal, and local partners who help save lives and protect us from accidents on the water. This season, let us recommit to following basic boating safety procedures to prevent boating fatalities, avoid property damage, and help boaters stay safe as they enjoy the beauty of the open water.

In recognition of the importance of safe boating practices, the Congress, by joint resolution approved on June 4, 1958 (36 U.S.C. 131), as amended, has authorized and requested the President to proclaim annually the 7-day period before Memorial Day weekend as “National Safe Boating Week.”

NOW, THEREFORE, I, JOSEPH R. BIDEN JR., President of the United States of America, do hereby proclaim May 21 through May 27, 2022, as National Safe Boating Week. I encourage all Americans who participate in boating activities to observe this occasion by learning more about safe boating practices, and by taking advantage of boating safety education opportunities. I also encourage the Governors of the States and Territories, and appropriate officials of all units of government, to join me in encouraging boating safety in every community.

IN WITNESS WHEREOF, I have hereunto set my hand this twentieth day of May, in the year of our Lord two thousand twenty-two, and of the Independence of the United States of America the two hundred and forty-sixth.

[FR Doc. 2022-11321

Filed 5-23-22; 11:15 am]

Billing code 3395-F2-P